Title 3—

The President

Proclamation 10687 of December 15, 2023

Wright Brothers Day, 2023

By the President of the United States of America

A Proclamation

One hundred twenty years ago on the sand dunes of Kitty Hawk, North Carolina, two brothers forever changed the course of history. Wilbur and Orville Wright achieved one of the most transformative technological advancements in the history of humankind: the first-ever sustained, controlled, and powered flight. This Wright Brothers Day, we honor Wilbur and Orville's quintessentially American spirit of innovation and ingenuity, and we celebrate their enduring legacy as pioneers who took our Nation to new heights.

On December 17, 1903, after years of arduous research, meticulous designs, and dangerous trials, Wilbur and Orville launched the Wright Flyer. Twelve seconds and 120 feet later, the brothers had achieved controlled flight. Their feat propelled our Nation forward, accelerating advancements in aeronautics and bringing us closer to unlocking the full potential of humanity. Through their determination and bold vision, the Wright Brothers laid the foundations for some of the greatest technological developments on record—from breaking the sound barrier and stepping foot on the moon to flying a helicopter on Mars and launching deep-space telescopes that are answering some of the fundamental questions of the universe. The legacy of the Wright brothers lives on through the talents and spirits of today's American dreamers and doers.

Most of all, Wilbur and Orville's advancement led to a new American innovation: modern air travel. My Administration is committed to preserving and investing in this legacy by enhancing safety and comfort from takeoff to landing. Through the Bipartisan Infrastructure Law, we are improving airport infrastructure across the country—expanding capacity at airport terminals, increasing energy efficiency, and making air travel more accessible for people with disabilities—all while creating good jobs across our Nation.

I have often said that America can be defined in one word: possibilities. This Wright Brothers Day, let us recognize these two courageous brothers from Dayton, Ohio, for reminding us what we can accomplish when we work together to reach our loftiest dreams and tackle our greatest challenges. May we recommit to carrying forward their bold spirit of creativity and cooperation as we forge a better future for all.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, JOSEPH R. BIDEN JR., President of the United States of America, do hereby proclaim December 17, 2023, as Wright Brothers Day.

IN WITNESS WHEREOF, I have hereunto set my hand this fifteenth day of December, in the year of our Lord two thousand twenty-three, and of the Independence of the United States of America the two hundred and forty-eighth.

[FR Doc. 2023-28169

Filed 12-19-23; 8:45 am]

Billing code 3395-F4-P